DEPARTMENT OF ENERGY

Energy Information Administration

Agency Information Collection Extension

AGENCY: U.S. Energy Information Administration (EIA), Department of Energy.

ACTION: Agency information collection activities: information collection extension with no changes; notice and request for comments.

SUMMARY: The EIA invites public comment on the proposed collection of information, EIA-882T, “Generic Clearance for Questionnaire Testing, Evaluation, and Research” that EIA is developing for submission to the Office of Management and Budget (OMB) pursuant to the Paperwork Reduction Act of 1995. Comments are invited on: (1) Whether the proposed collection of information is necessary for the proper performance of the functions of the agency, including whether the information shall have practical utility; (2) the accuracy of the agency's estimate of the burden of the proposed collection of information, including the validity of the methodology and assumptions used; (3) ways to enhance the quality, utility, and clarity of the information to be collected; and (4) ways to minimize the burden of the collection of information on respondents, including through the use of automated collection techniques or other forms of information technology.

DATES: Comments regarding this proposed information collection must be received on or before February 26, 2016. If you anticipate difficulty in submitting comments within that period, contact the person listed in ADDRESSES as soon as possible.

ADDRESSES: Written comments may be sent to Jacob Bournazian, Energy Information Administration, 1000 Independence Avenue SW., Washington DC 20585 or by fax at 202-586-0552 or by email at jacob.bournazian@eia.gov.

FOR FURTHER INFORMATION CONTACT: Requests for additional information or copies of the information collection instrument and instructions should be directed to Jacob Bournazian, Energy Information Administration, 1000 Independence Avenue SW., Washington DC 20585, phone: 202-586-5562, email: jacob.bournazian@eia.gov.

SUPPLEMENTARY INFORMATION: This information collection request contains:

(1) OMB No.: 1905-0186;

(2) Information Collection Request Title: Generic Clearance for Questionnaire Testing, Evaluation, and Research;

(3) Type of Request: Renewal;

(4) Purpose: The U.S. Energy Information Administration (EIA) is planning to request a three-year approval from the Office of Management and Budget (OMB) to utilize qualitative and quantitative methodologies to pretest questionnaires and validate the quality of the data collected on EIA forms. This authority would allow EIA to conduct pretest surveys, pilot surveys, respondent debriefings, cognitive interviews, usability interviews, and focus groups. Through the use of these methodologies, EIA will improve the quality of data being collected for measuring market activity and assessing supply conditions in energy markets, reduce or minimize respondent burden, increase agency efficiency, and improve responsiveness to the public. This authority also improves EIA's ability to collect relevant and timely information that meets the data needs of EIA's customers.

(5) Annual Estimated Number of Respondents: 2,000;

(6) Annual Estimated Number of Total Responses: 2,000;

(7) Annual Estimated Number of Burden Hours: 2,000;

(8) Annual Estimated Reporting and Recordkeeping Cost Burden: There are no additional costs associated with these survey methods other than the burden hours. The information is maintained in the normal course of business. The cost of burden hours to the respondents is estimated to be $144,040 (2,000 burden hours times $72.02 per hour), which represents a reduction of 1,006 burden hours from the prior renewal of this collection. Therefore, other than the cost of burden hours, EIA estimates that there are no additional costs for generating, maintaining and providing the information.

Statutory Authority: Section 13(b) of the Federal Energy Administration Act of 1974, Public Law 93-275, codified at 15 U.S.C. 772(b).

Issued in Washington, DC, on January 21, 2016.
Nanda Srinivasan,
Director, Office of Survey Development and Statistical Integration, U. S. Energy Information Administration.

[FR Doc. 2016-01645 Filed 1-26-16; 8:45 am]

BILLING CODE 6450-01-P